DEPARTMENT OF TRANSPORTATION

Federal Aviation Administration

14 CFR Part 39

[Docket No. FAA-2013-0466; Directorate Identifier 2012-NM-156-AD; Amendment 39-17749; AD 2014-03-12]

RIN 2120-AA64

Airworthiness Directives; Dassault Aviation Airplanes

AGENCY: Federal Aviation Administration (FAA), Department of Transportation (DOT).

ACTION: Final rule.

SUMMARY: We are superseding Airworthiness Directive (AD) 2002-23-19 for all Dassault Aviation Model FALCON 2000 series airplanes. AD 2002-23-19 required repetitive operational tests, repetitive measurements, and repetitive replacement of certain jackscrews. This new AD requires revising the maintenance program to incorporate new or revised maintenance requirements and airworthiness limitations. This AD was prompted by the manufacturer revising the airplane maintenance manual (AMM) maintenance requirements and airworthiness limitations. We are issuing this AD to prevent reduced controllability of the airplane.

DATES: This AD becomes effective April 7, 2014.

The Director of the Federal Register approved the incorporation by reference of a certain publication listed in this AD as of April 7, 2014.

ADDRESSES: You may examine the AD docket on the Internet at http://www.regulations.gov/#!docketDetail;D=FAA-2013-0466 ; or in person at the U.S. Department of Transportation, Docket Operations, M-30, West Building Ground Floor, Room W12-140, 1200 New Jersey Avenue SE., Washington, DC.

For service information identified in this AD, contact Dassault Falcon Jet, P.O. Box 2000, South Hackensack, NJ 07606; telephone 201-440-6700; Internet http://www.dassaultfalcon.com. You may view this referenced service information at the FAA, Transport Airplane Directorate, 1601 Lind Avenue SW., Renton, WA. For information on the availability of this material at the FAA, call 425-227-1221.

FOR FURTHER INFORMATION CONTACT: Tom Rodriguez, Aerospace Engineer, International Branch, ANM-116, Transport Airplane Directorate, FAA, 1601 Lind Avenue SW., Renton, WA 98057-3356; telephone 425-227-1137; fax 425-227-1149.

SUPPLEMENTARY INFORMATION:

Discussion

We issued a notice of proposed rulemaking (NPRM) to amend 14 CFR part 39 to supersede AD 2002-23-19, Amendment 39-12963 (67 FR 71452, December 2, 2002). AD 2002-23-19 applied to all Dassault Aviation Model FALCON 2000 series airplanes. The NPRM published in the Federal Register on July 12, 2013 (78 FR 41882). The NPRM proposed to revise the maintenance program to incorporate new or revised maintenance requirements and airworthiness limitations.

The European Aviation Safety Agency (EASA), which is the Technical Agent for the Member States of the European Community, has issued EASA Airworthiness Directive 2012-0156, dated August 23, 2012 (referred to after this as the Mandatory Continuing Airworthiness Information, or “the MCAI”), to correct an unsafe condition for the specified products. The MCAI states:

The airworthiness limitations and maintenance requirements for the Falcon 2000 type design are included in Dassault Aviation Falcon 2000 (F2000) Aircraft Maintenance Manual (AMM) chapter 5-40 and are approved by the European Aviation Safety Agency (EASA). EASA issued AD 2008-0221 [http://ad.easa.europa.eu/blob/easa_ad_2008_0221_Corrected.pdf/AD_2008-0221_1] to require accomplishment of the maintenance tasks, and implementation of the airworthiness limitations, as specified in Dassault Aviation F2000 AMM chapter 5-40 at revision 12.

Since that [EASA] AD was issued, Dassault Aviation have issued F2000 AMM chapter 5-40 at revision 17, which introduces new or more restrictive maintenance requirements and/or airworthiness limitations.

Dassault Aviation AMM chapter 5-40 revision 17 contains among other changes the following requirements:

—Inspection and test of horizontal stabilizer jackscrew;

—Operational test of voltage monitoring circuits;

—Upgrade of screwjack of flap actuators from the older to the latest -3 version;

—Revised Time Between Overhaul for screwjack of flap actuators -3 version;

—Revised interval for checking the screw/nut play on screwjack of flap actuators -3 version;

—Removal of service life limit for screwjack of flap actuators;

—Test of flap asymmetry protection system. Compliance with the flap asymmetry test is required by DGAC [Direction Générale de l'Aviation Civile] France AD F-1999-038-008(B)R1 [which can be found in the AD docket at http://www.regulations.gov/#!documentDetail;D=FAA-2013-0466-0002. F2000 AMM chapter 5-40 at revision 17 introduces extended inspection interval;

—Inspection procedures of fuselage and wings;

—Check of overpressure tightness on pressurization control regulating valves. Compliance with this check is required by EASA AD 2008-0072 [http://ad.easa.europa.eu/blob/easa_ad_2008_0072.pdf/AD_2008-0072_1]. F2000 AMM chapter 5-40 at revision 17 introduces extended inspection interval.

The maintenance tasks and airworthiness limitations, as specified in the F2000 AMM chapter 5-40, have been identified as mandatory actions for continued airworthiness of the F2000 type design. Failure to comply with AMM chapter 5-40 at revision 17 might constitute an unsafe condition.

* * * * *

The required action is revising the maintenance program to incorporate all airworthiness limitations and maintenance tasks specified in Chapter 5-40, Airworthiness Limitations, Revision 18, dated July 2012, of Chapter 5, Maintenance Planning Document, of the Dassualt Falcon 2000 Maintenance Manual. You may examine the MCAI in the AD docket on the Internet at http://www.regulations.gov/#!documentDetail;D=FAA-2013-0466-0002.

Comments

We gave the public the opportunity to participate in developing this AD. We received no comments on the NPRM (78 FR 41882, July 12, 2013) or on the determination of the cost to the public.

Explanation of Changes to This Final Rule

After the NPRM (78 FR 41882, July 12, 2013) was published, we determined that it was not necessary to retain the requirements of AD 2010-26-05, Amendment 39-16544 (75 FR 79952, December 21, 2010), in this final rule. Paragraphs (g), (h), and (i) of the NPRM were not carried over into this final rule, and the paragraphs that were carried over into this final rule have been redesignated accordingly.

We have concluded that the actions required by this final rule address the unsafe condition.

Because paragraphs (g), (h), and (i) of the NPRM (78 FR 41882, July 12, 2013) were not carried over into this final rule, we revised the Costs of Compliance paragraph in this final rule to omit the costs associated with those paragraphs.

Conclusion

We reviewed the available data and determined that air safety and the public interest require adopting this AD with the changes described previously, and minor editorial changes. We have determined that these changes:

• Are consistent with the intent that was proposed in the NPRM (78 FR 41882, July 12, 2013) for correcting the unsafe condition; and

• Do not add any additional burden upon the public than was already proposed in the NPRM (78 FR 41882, July 12, 2013).

Costs of Compliance

We estimate that this AD affects 229 airplanes of U.S. registry.

We estimate that it takes about 1 work-hour per product to comply with the basic requirements of this AD. The average labor rate is $85 per work-hour. Based on these figures, we estimate the cost of this AD on U.S. operators to be $19,465, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2013-0466-0002; or in person at the Docket Operations office between 9 a.m. and 5 p.m., Monday through Friday, except Federal holidays. The AD docket contains this AD, the regulatory evaluation, any comments received, and other information. The street address for the Docket Operations office (telephone (800) 647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2002-23-19, Amendment 39-12963 (67 FR 71452, December 2, 2002), and adding the following new AD:

2014-03-12 Dassault Aviation: Amendment 39-17749. Docket No. FAA-2013-0466; Directorate Identifier 2012-NM-156-AD.

(a) Effective Date

This airworthiness directive (AD) becomes effective April 7, 2014.

(b) Affected ADs

This AD supersedes AD 2002-23-19, Amendment 39-12963 (67 FR 71452, December 2, 2002). Certain requirements of this AD terminate certain requirements of AD 2010-26-05, Amendment 39-16544 (75 FR 79952, December 21, 2010).

(c) Applicability

This AD applies to Dassault Aviation Model FALCON 2000 airplanes, certificated in any category, all serial numbers.

(d) Subject

Air Transport Association (ATA) of America Code 05, Time limits and maintenance checks.

(e) Reason

This AD was prompted by manufacturer revisions to the airplane maintenance manual (AMM) that introduce new or more restrictive maintenance requirements and airworthiness limitations. We are issuing this AD to prevent reduced controllability of the airplane.

(f) Compliance

Comply with this AD within the compliance times specified, unless already done.

(g) Revision of the Maintenance Program

Within 30 days after the effective date of this AD, revise the maintenance program to incorporate the information specified in Chapter 5-40, Airworthiness Limitations, Revision 18, dated July 2012, of Chapter 5, Maintenance Planning Document, of the Dassault Falcon 2000 Maintenance Manual. The initial compliance time for the tasks are at the applicable times specified in Chapter 5-40, Airworthiness Limitations, Revision 18, dated July 2012, of Chapter 5, Maintenance Planning Document, of the Dassault Falcon 2000 Maintenance Manual, or within 30 days after the effective date of this AD, whichever occurs later. Clarification of compliance time terminology used in the tables in the service information is provided in paragraphs (g)(1) through (g)(6) of this AD.

(1) The term “landings” in the “First Inspection” column of any table in the service information specified in paragraph (g) of this AD means total airplane landings.

(2) The term “flight hours” in the “First Inspection” column of any table in the service information specified in paragraph (g) of this AD means total flight hours.

(3) The term “flight cycles” in the “First Inspection” column of any table in the service information specified in paragraph (g) of this AD means total flight cycles.

(4) For Task 30-11-09-350-801 30-103 identified in the service information specified in paragraph (g) of this AD, the initial compliance time is the later of the times specified in paragraphs (g)(4)(i) and (g)(4)(ii) of this AD.

(i) Prior to the accumulation of 2,400 total flight hours or 2,000 total flight cycles, or within 2,400 flight hours or 2,000 flight cycles after the effective date of this AD, whichever occurs first.

(ii) Within 30 days after the effective date of this AD.

(5) For Task 52-20-00-610-801-01 52-205 identified in the service information specified in paragraph (g) of this AD, the initial compliance time is 24 months after the effective date of this AD.

(6) The limited service life of part number F2MA721512100 is 3,750 total flight cycles on the part or 6 years since the manufacturing date of the part, whichever occurs first.

(h) Terminating Action

Accomplishment of the actions required by paragraph (g) of this AD terminates the requirements of paragraph (g) of AD 2010-26-05, Amendment 39-16544 (75 FR 79952, December 21, 2010), for all Dassault Aviation Model FALCON 2000 airplanes.

(i) No Alternative Actions or Intervals

After accomplishing the revision required by paragraph (g) of this AD, no alternative actions (e.g., inspections) or intervals may be used unless the actions or intervals are approved as an alternative method of compliance in accordance with the procedures specified in paragraph (j)(1) of this AD.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, WA 98057-3356; telephone 425-227-1137; fax 425-227-1137. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(k) Related Information

Refer to Mandatory Continuing Airworthiness Information (MCAI) European Aviation Safety Agency Airworthiness Directive 2012-0156, dated August 23, 2012, for related information. The MCAI can be found in the AD docket on the Internet at http://www.regulations.gov/#!documentDetail;D=FAA-2013-0466-0002.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Chapter 5-40, Airworthiness Limitations, Revision 18, dated July 2012, of Chapter 5, Maintenance Planning Document, of the Dassualt Falcon 2000 Maintenance Manual.

(ii) Reserved.

(3) For service information identified in this AD, contact Dassault Falcon Jet, P.O. Box 2000, South Hackensack, NJ 07606; telephone 201-440-6700; Internet http://www.dassaultfalcon.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on February 3, 2014.
Jeffrey E. Duven,
Manager, Transport Airplane Directorate, Aircraft Certification Service.

[FR Doc. 2014-02775 Filed 2-28-14; 8:45 am]

BILLING CODE 4910-13-P